DEPARTMENT OF COMMERCE

National Oceanic and Atmospheric Administration

[RTID 0648-XB253]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application submitted by Nordic, Inc. in partnership with the Coonamessett Farm Foundation contains all of the required information and warrants further consideration. Regulations under the Magnuson-Stevens Fishery Conservation and Management Act require publication of this notification to provide interested parties the opportunity to comment on applications for proposed Exempted Fishing Permits.

DATES: Comments must be received on or before August 9, 2021.

ADDRESSES: You may submit written comments by the following method:

• Email: nmfs.gar.efp@noaa.gov. Include in the subject line “Nordic Scallop Transplanting EFP.”

FOR FURTHER INFORMATION CONTACT: Shannah Jaburek, Fishery Management Specialist, shannah.jaburek@noaa.gov, (978) 281-9135.

SUPPLEMENTARY INFORMATION: Nordic, Inc. submitted a complete application for an Exempted Fishing Permit (EFP) to conduct commercial fishing activities that the regulations would otherwise restrict. This EFP would exempt the participating vessels from: Day-at-sea requirements at 50 CFR 648.53; crew size restrictions at § 648.51(c); scallop fishing restrictions in the Nantucket Lightship Closed Area—South at § 648.60(g); scallop trawl restrictions at § 648.51(a)(1) and (f); scallop dredge restrictions at § 648.51(b)(2) and (b)(3); and minimum size and possession restrictions for onboard sampling and scallop transplanting in § 648 subparts B and D through O.

Nordic, Inc., Eastern Fisheries, Quinn Fisheries, and Fulcher Trawling applied for an EFP on April 22, 2021, to work with the Coonamessett Farm Foundation (CFF) on a scallop transplanting study. This project would continue previous scallop transplanting work done by CFF and investigate the feasibility of using scallop transplanting to increase scallop growth by moving them from deep, scallop dense areas to shallower, less populated areas.

The proposed EFP would allow Nordic, Inc. and CFF to transplant 750,000 scallops in the Nantucket Lightship Access Area-South with trawls and a dredge. A subsample of the catch would be tagged (i.e., 10,000 scallops), along with a subsample of previously transplanted scallops caught in the proposed research area. Transplanting work would begin when an EFP is issued, and monitoring of the harvest and transplant areas would occur during scallop Research Set-Aside (RSA) funded surveys conducted by CFF, the Virginia Institute of Technology, and the University of Massachusetts at Dartmouth School of Marine Science and Technology.

CFF would provide scientific staff to oversee transplant operations, tag scallops, and collect data during field operations. Scallops would be harvested by a commercial scalloping vessel that already preformed transplanting operations. Four vessels would harvest scallops with a two-panel box net towed between 2.5 and 3.5 knots (4.6 and 6.5 km per hour) for 10 minutes per tow. These vessels would steam to the transplant area with the trawl doors closed and the net remaining in the water. One vessel would harvest scallops by towing two, 4.57-meter wide New Bedford style dredges for 10 minutes per tow. No catch will be landed for sale.

Once catch is brought on board, it would be sorted by size, marked, and stored in cooled fish totes. A subsample of scallops would be tagged with disc tags. Tagging would occur between dusk and dawn to minimize mortality. Scallops would be released overboard at the transplanting area.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 20, 2021.
Jennifer M. Wallace,
Acting Director, Office of Sustainable Fisheries, National Marine Fisheries Service.

[FR Doc. 2021-15725 Filed 7-22-21; 8:45 am]

BILLING CODE 3510-22-P